FEDERAL TRADE COMMISSION

16 CFR Part 437

Business Opportunity Rule

AGENCY: Federal Trade Commission.

ACTION: Extension of period to submit rebuttal comments in response to the Notice of Proposed Rulemaking.

SUMMARY: In a Federal Register notice published on April 12, 2006, 71 FR 19054, the FTC requested comment on its Notice of Proposed Rulemaking in connection with the Business Opportunity Rule. The Notice required that comments be submitted on or before June 16, 2006, and rebuttal comments be submitted on or before July 7, 2006. On June 1, 2006, 71 FR 31124, the Commission extended the comment period to July 17, 2006, and the rebuttal comment period until August 7, 2006. In response to a request received on July 24, 2006, the Commission has extended the rebuttal comment period until September 29, 2006.

DATES: Rebuttal comments addressing the Business Opportunity Rule Notice of Proposed Rulemaking must be submitted on or before September 29, 2006.

ADDRESSES: Interested parties are invited to submit written rebuttal comments. Rebuttal comments should refer to “Business Opportunity Rule, R511993” to facilitate the organization of rebuttal comments. A rebuttal comment filed in paper form should include this reference both in the text and on the envelope, and should be mailed or delivered, with two complete copies, to the following address: Federal Trade Commission/Office of the Secretary, Room H-135 (Annex W), 600 Pennsylvania Avenue, NW, Washington, DC 20580. The FTC is requesting that any rebuttal comment filed in paper form be sent by courier or overnight service, if possible, because U.S. postal mail in the Washington area and at the Commission is subject to delay due to heightened security precautions. Moreover, because paper mail in the Washington area and at the Agency is subject to delay, please consider submitting your rebuttal comments in electronic form, as prescribed below. Rebuttal comments containing confidential material, however, must be filed in paper form, must be clearly labeled “Confidential,” and must comply with Commission Rule 4.9(c).¹

¹ The rebuttal comment must be accompanied by an explicit request for confidential treatment, including the factual and legal basis for the request, and must identify the specific portions of the rebuttal to be withheld from the public record. The request will be granted or denied by the Commission's General Counsel, consistent with applicable law and the public interest. See Commission Rule 4.9(c), 16 CFR 4.9(c).

Rebuttal comments filed in electronic form should be submitted by clicking on the following weblink: https://secure.commentworks.com/ftc-bizopNPR/ and following the instructions on the web-based form. To ensure that the Commission considers an electronically filed rebuttal comment, you must file it on the web-based form at the https://secure.commentworks.com/ftc-bizopNPR/ weblink. If this notice appears at www.regulations.gov, you may also file an electronic rebuttal comment through that website. The Commission will consider all rebuttal comments that regulations.gov forwards to it. You may also visit the FTC website at http://www.ftc.gov/opa/2006/04/newbizopprule.htm to read the Notice of Proposed Rulemaking and the news release describing this proposed Rule.

FOR FURTHER INFORMATION CONTACT: Steven Toporoff, (202) 326-3135, or Karen Hobbs, (202) 326-3587, Division of Marketing Practices, Bureau of Consumer Protection, Federal Trade Commission, 600 Pennsylvania Avenue, NW, H-286, Washington, DC 20580.

SUPPLEMENTARY INFORMATION: On April 12, 2006, 71 FR 19054, the FTC requested comment on its Notice of Proposed Rulemaking (“NPR” or “Notice”) in connection with the Business Opportunity Rule. The Notice required that comments and rebuttal comments be submitted on or before June 16, 2006, and July 7, 2006, respectively. On June 1, 2006, 71 FR 31124, the Commission extended the comment period to July 17, 2006, and the rebuttal comment period until August 7, 2006.

On July 24, 2006, the Commission received a letter from the Direct Selling Association (“DSA”) noting the thousands of comments submitted concerning the proposed Rule and requesting that the Commission extend the rebuttal comment period “for 60 days beyond the time it takes for the FTC to make all comments available electronically.”

The Commission has received more than 15,000 comments in response to the NPR. Given this volume, posting comments will extend beyond the end of the current rebuttal comment period, which closed on August 7, 2006. Accordingly, an extension is warranted in order to ensure that comments are posted and that the public has sufficient time to prepare rebuttals.

Please note that the rebuttal period is limited to comments that specifically identify a previously submitted comment and provide new data or arguments as to why the original comment, in whole or in part, is inaccurate. Although anyone can submit a rebuttal comment, regardless of whether the rebuttal commenter filed an original comment, original comments or comments that merely repeat what was previously submitted in an original comment will not be accepted into the record as rebuttal comments.

Accordingly, the Commission has determined to extend the rebuttal comment period set forth in the Notice until September 29, 2006.

By direction of the Commission.
Donald S. Clark,
Secretary.

[FR Doc. E6-13398 Filed 8-14-06; 8:45 am]

BILLING CODE 6750-01-P